DEPARTMENT OF HEALTH AND HUMAN SERVICES

Solicitation of Nominations for Appointment to the Chronic Fatigue Syndrome Advisory Committee

AGENCY: Department of Health and Human Services, Office of the Secretary, Office of the Assistant Secretary for Health, Office on Women's Health.

ACTION: Notice.

Authority: 42 U.S.C. 271A, Section 222 of the Public Health Service (PHS) Act, as amended. The Committee is governed by the provisions of the Federal Advisory Committee Act, Public Law 92-463, as amended (5 U.S.C. App), which sets forth standards for the formation and use of advisory committees.

SUMMARY: The Office of the Assistant Secretary for Health, Office on Women's Health, HHS, is seeking nominations of qualified candidates to be considered for appointment as a member of the Chronic Fatigue Syndrome Advisory Committee (CFSAC). CFSAC provides advice and recommendations to the Secretary of Health and Human Services, through the Assistant Secretary for Health, on a broad range of issues and topics related to chronic fatigue syndrome (CFS). The appointments of three Committee members are scheduled to end during the 2012 calendar year. Nominations of qualified candidates are being sought to fill these future vacancies.

DATES: Nominations to be considered for appointment to the Committee must be received no later August 17, 2011, by 5 p.m. EDT, at the address listed below.

ADDRESSES: All nominations should be mailed or delivered to Nancy C. Lee, M.D., Executive Secretary, Chronic Fatigue Syndrome Advisory Committee, c/o Office on Women's Health, Department of Health and Human Services, 200 Independence Avenue, SW., Room 712E, Washington, DC 20201. No nominations will be accepted by e-mail.

FOR FURTHER INFORMATION CONTACT: Nancy C. Lee, M.D., Office on Women's Health, Department of Health and Human Services, 200 Independence Avenue, SW., Room 712E, Washington, DC 20201; Telephone: (202) 690-7650. Inquiries also can be sent to cfsac@hhs.gov.

SUPPLEMENTARY INFORMATION: CFSAC was established on September 5, 2002. The Committee was established to advise, consult with, and make recommendations to the Secretary of Health and Human Services, through the Assistant Secretary for Health, on a broad range of topics including: (1) The current state of knowledge and research and the relevant gaps in knowledge and research about the epidemiology, etiologies, biomarkers and risk factors relating to CFS, and identifying potential opportunities in these areas; (2) impact and implications of current and proposed diagnosis and treatment methods for CFS; (3) development and implementation of programs to inform the public, health care professionals, and the biomedical academic and research communities about CFS advances; and (4) partnering to improve the quality of life of CFS patients.

Nominations: The Office on Women's Health is requesting nominations to fill CFSAC positions that are scheduled to be vacated. The positions are scheduled to become vacant in April 2012. The Committee membership consists of 11 members. The Committee is composed of seven biomedical research scientists with demonstrated expertise in biomedical research applicable to CFS and four individuals with demonstrated expertise in health care delivery, private health care services or insurers, or voluntary organizations concerned with the problems of individuals with CFS. The scheduled vacancies affect both member categories.

Individuals selected for appointment to the Committee will serve as voting members. Individuals selected for appointment to the committee can be invited to serve terms of up to four years. Committee members receive a stipend for attending Committee meetings and also are authorized to receive per diem and reimbursement for travel expenses incurred to attend the meetings.

To qualify for consideration of appointment to the Committee, an individual must possess and demonstrate experience and expertise in the designated fields or disciplines, as well as expert knowledge of the broad issues and topics pertinent to CFS.

Nominations should be typewritten. The original nomination package should include: (1) A letter of nomination that clearly states the name and affiliation of the nominee, the basis for the nomination (i.e., specific attributes which qualify the nominee for being considered for appointment to the Committee), and a statement that the nominee is willing to serve as a member of the Committee; (2) the nominator's name, address, and daytime telephone number, and contact information (specifically, home and/or work address, telephone number and e-mail address) for the nominated individual; and (3) a current copy of the nominated individual's curriculum vitae or resume. Nominations that do not provide these three elements will not be considered. Nominations of Federal employees should not be submitted; Federal employees will not be considered for appointment to the Committee.

The Department makes every effort to ensure that the membership of HHS Federal advisory committees is fairly balanced in terms of points of view represented and the committee's function. Every effort is made to ensure that a broad representation of geographic areas, gender, ethnic and minority groups, and people with disabilities are given consideration for membership on HHS Federal advisory committees. Appointment to this Committee shall be made without discrimination on the basis of age, race, ethnicity, gender, sexual orientation, disability, and cultural, religious, or socioeconomic status. Potential candidates will be required to provide detailed information concerning such matters as financial holdings, consultancies, and research grants or contracts to permit evaluation of possible conflicts of interest.

Dated: July 12, 2011.
Nancy C. Lee,
Deputy Assistant Secretary for Health—Women's Health and Executive Secretary, Chronic Fatigue Syndrome Advisory Committee.

[FR Doc. 2011-18038 Filed 7-15-11; 8:45 am]

BILLING CODE 4150-42-P